DEPARTMENT OF ENERGY

Federal Energy Regulatory Commission

[Project No. 6032-051]

Niagara Mohawk Power Corporation and Fourth Branch Associates (Mechanicville); Notice of Settlement and Soliciting Comments

April 28, 2003.

Take notice that the following offer of settlement has been filed with the Commission and is available for public inspection.

a. Type of Application: Offer of Settlement and Request to Rescind Acceptance of License Surrender.

b. Project No.: 6032-051.

c. Date filed: April 23, 2003.

d. Applicant: Niagara Mohawk Power Corporation and Fourth Branch Associates.

e. Name of Project: Mechanicville Project.

f. Location: On the Hudson River, in Saratoga and Rensselaer Counties, New York. There are no known federal lands, including Indian reservations, occupied by project works or located within the project boundary.

g. Filed Pursuant to: Rule 602 of the Commission's Rules of Practice and Procedure, 18 CFR 385.602.

h. Applicant Contacts: Frances E. Francis, Spiegel & McDiarmid, 1333 New Hampshire Avenue, NW., Washington, DC 20036, (202) 879-4000. Stephen C. Palmer, Swidler, Berlin, Shereff, Friedman LLP, 3000 K Street NW., Suite 300, Washington, DC 20007-5116, (202) 424-7500.

i. FERC Contact: Heather Campbell, (202) 502-6182, heather.campbell@ferc.gov.

j. Deadline for filing comments: May 8, 2003. Reply comments due: May 19, 2003.

All comments (original and eight copies) should be filed with: Magalie R. Salas, Secretary, Federal Energy Regulatory Commission, 888 First Street, NE., Washington, DC 20426. The Commission's Rules of Practice require all persons filing documents with the Commission to serve a copy of those documents on each person on the official service list for the project, which is maintained by the Secretary.

Comments may be filed electronically via the Internet in lieu of paper. The Commission strongly encourages electronic filings. See 18 CFR 385.2001(a)(1)(iii) and the instructions on the Commission's Web site (http://www.ferc.gov) under the “e-Filing” link.

k. Niagara Mohawk Power Corporation and Fourth Branch Associates (co-licensees) state that they filed the Offer of Settlement for the purpose of resolving between the co-licensees all issues associated with the Mechanicville Project. The co-licensees request that the Commission approve and implement the Settlement Agreement; rescind its acceptance of the surrender of the license for the Mechanicville Project; and, upon effectiveness of a license transfer, terminate the surrender proceeding. The Settlement Agreement transfers all of Niagara Mohawk Power Corporation's interests in the Project to Fourth Branch Associates and, in turn, Fourth Branch Associates will discontinue all proceedings against Niagara Mohawk Power Corporation.

l. A copy of the settlement agreement is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via email of new filings and issuances related to this or other pending projects. For assistance, contact FERC Online Support.

Magalie R. Salas,
Secretary.

[FR Doc. 03-10965 Filed 5-2-03; 8:45 am]

BILLING CODE 6717-01-P